SURFACE TRANSPORTATION BOARD

[Docket No. FD 36127]

Grand Elk Railroad, Inc.—Acquisition Exemption—Norfolk Southern Railway Company

By petition filed on June 12, 2017, Grand Elk Railroad, Inc. (GDLK), seeks an exemption under 49 U.S.C. 10502 from the requirements of 49 U.S.C. 10902 to acquire trackage rights currently held by Norfolk Southern Railway Company over 3.3 miles of track in Grand Rapids, Mich. owned by CSX Transportation, Inc. (CSXT).¹ The proposed transaction relates to proceedings before the Board in 2008 and 2016 in Docket Nos. FD 35187 and FD 35187 (Sub-No. 1), respectively.

¹ By a second petition filed on the same date, upon approval of the acquisition exemption in Docket No. FD 36127, GDLK seeks a Board order directing restoration of GDLK operations over the 3.3-mile CSXT line. See GDLK Petition, Grand Elk R.R.—Pet. for Board Order—Norfolk S. Ry., FD 36127 (Sub-No. 1).

The Board will institute a proceeding. The Board is aware of GDLK's request for expedited consideration of this petition and GDLK's related petition in Docket No. FD 36127 (Sub-No. 1) and anticipates issuing a decision addressing these matters in the near future. No further briefing is necessary at this time.

It is ordered:

1. Under 49 U.S.C. 10502(b), a proceeding is instituted.

2. Notice of the Board's action will be published in the Federal Register.

3. This decision is effective on its service date.

Decided: September 5, 2017.
By the Board, Rachel D. Campbell, Director, Office of Proceedings.
Jeffrey Herzig,
Clearance Clerk.

[FR Doc. 2017-19102 Filed 9-7-17; 8:45 am]

BILLING CODE 4915-01-P